DEPARTMENT OF TRANSPORTATION

Federal Aviation Administration

Notice of Opportunity for Public Comment To Change the Land Use From Aeronautical to Non Aeronautical for 31.2 Acres at Old Town Municipal Airport, Old Town, ME

AGENCY: Federal Aviation Administration (FAA), DOT.

ACTION: Request for Public Comments.

SUMMARY: Notice is being given that the FAA is considering a request from the Town of Old Town, ME to change the land use from Aeronautical to Non Aeronautical for 31.2 acres of airport land. The land use change will allow the development of a solar farm on land that is not needed for aeronautical purposes. The revenue generated by the lease of airport land for the solar farm will be placed into the airport's operation and maintenance fund.

DATES: Comments must be received on or before August 25, 2020.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts 01803. Telephone: 781-238-7618.

Issued in Burlington, Massachusetts on July 24, 2020.
Julie Seltsam-Wilps,
Deputy Director, ANE-600.

[FR Doc. 2020-16430 Filed 7-28-20; 8:45 am]

BILLING CODE P